DEPARTMENT OF THE INTERIOR

Bureau of Indian Affairs

Solicitation for Comments on the Proposed Realignment of the Division of Workforce Development From the Office of Indian Energy and Economic Development to the Office of the Deputy Director—Indian Services, Bureau of Indian Affairs

AGENCIES: Office of the Assistant Secretary—Indian Affairs and Bureau of Indian Affairs, Interior.

ACTION: Notice.

SUMMARY: The Office of the Assistant Secretary—Indian Affairs (AS-IA) is considering realigning the Division of Workforce Development (DWD), now located in the Office of Indian Energy and Economic Development (IEED) within AS-IA, to the Bureau of Indian Affairs, under the Office of the Deputy Director—Indian Services. This notice seeks comments on this proposed realignment from federally recognized American Indian Tribes and Alaska Native entities.

DATES: Interested persons are invited to submit comments on or before July 27, 2012.

ADDRESSES: You may submit comments on the information collection to Mr. Jack Stevens, Acting Director, Division of Workforce Development, Office of Indian Energy and Economic Development, U.S. Department of the Interior, Room 20—South Interior Building, 1951 Constitution Avenue NW., Washington, DC 20245, fax (202) 208-4564; email: Jack.Stevens@bia.gov.

FOR FURTHER INFORMATION CONTACT: You may request further information from Mr. Jack Stevens, Acting Director, Division of Workforce Development, Office of Indian Energy and Economic Development, U.S. Department of the Interior. Telephone: (202) 208-6764.

SUPPLEMENTARY INFORMATION:

I. Abstract

The AS-IA is considering realigning the DWD, now located in IEED, to the BIA, under the Office of the Deputy Director—Indian Services, to improve management efficiencies and strengthen the Public Law 102-477 demonstration project.

In 2005, DWD was realigned from the Office of Tribal Services (now the Office of the Deputy Director—Indian Services), BIA to the Office of Self-Governance. On August 29, 2006, it was realigned again, into IEED. The purpose of the action under consideration is to return DWD to the Office of the Deputy Director—Indian Services. This realignment will not result in any loss of funding or staff positions for DWD nor will it alter in any respect its responsibility to:

• Administer the Public Law 102-477 demonstration project under the Indian Employment, Training, and Related Services Demonstration Act of 1992, as amended, 25 U.S.C. 3401 et seq.

• Administer the Job Placement and Training Program under 25 CFR part 26

• Gather and publish population and employment data for the congressionally-mandated Labor Force Report pursuant to 25 U.S.C. 3416.

Rather, the realignment would reunite DWD with the Division of Human Services and the Division of Self-Determination, which perform complementary services and which are within the office of the Deputy Director—Indian Services.

DWD transmits welfare funding under the BIA's General Assistance Program and the Tribal Temporary Assistance to Needy Families Program (TANF); job placement and training aid under the Department of Health and Human Service's Native Employment Works Program (NEW) program, the Department of Labor's Workforce Investment Act (WIA), and the Department of Labor's Section 166 Comprehensive Services Program and its Section 166 Supplemental Youth Services Program; funding for child welfare and child protective services under the Child Care and Development Fund Program (CCDF); funding for school supplies under the BIE Johnson-O'Malley (JOM) programs; and funding for burial services under 25 CFR 20.324-20.326. These operations align with the Division of Human Services, which administers social service, welfare assistance, and American Indian child welfare matters.

DWD provides many of its funding awards through Public Law 93-638 contracts, which the Division of Self-Determination oversees. The Division of Self-Determination also provides Public Law 93-638 training and technical assistance to the BIA and tribes and certifies Awarding Officials who monitor the performance of Public Law 93-638 contracts.

For these operational reasons, AS-IA proposes to return DWD to its original home in the BIA.

Dated: May 31, 2012.
Donald E. Laverdure,
Acting Assistant Secretary—Indian Affairs.

[FR Doc. 2012-14241 Filed 6-11-12; 8:45 am]

BILLING CODE 4310-4M-P